DEPARTMENT OF VETERANS AFFAIRS

Solicitation of Nominations for Appointment to the Research Advisory Committee on Gulf War Veterans' Illnesses

AGENCY: Department of Veterans Affairs.

ACTION: Notice.

SUMMARY: The Department of Veterans Affairs (VA), Veterans Health Administration (VHA), is seeking nominations of qualified candidates to be considered for appointment as a member of the Research Advisory Committee on Gulf War Veterans' Illnesses (hereinafter referred to as “the Committee”). The Committee was established pursuant to Public Law 105-368, Section 104, to advise the Secretary of VA with respect to proposed research studies, plans, and strategies related to understanding and treating the health consequences of military service in the Southwest Asia theatre of operations during the 1990-1991 Gulf War. Nominations of qualified candidates are being sought to fill upcoming vacancies on the Committee.

DATES: Nominations for membership on the Committee must be received no later than 5:00 p.m. EDT on October 24, 2014.

ADDRESSES: All nominations should be mailed to Veterans Health Administration, Department of Veterans Affairs, 810 Vermont Ave. NW., (10P), Washington, DC 20420, emailed to victor.kalasinsky@va.gov, or faxed to (202) 495-6155.

FOR FURTHER INFORMATION CONTACT: Dr. Victor Kalasinsky, Veterans Health Administration, Department of Veterans Affairs, 810 Vermont Ave. NW (10P), Washington, DC 20420, telephone (202) 443-5600. (This is not a toll free number.) A copy of the Committee charter and list of the current membership can be obtained by contacting Dr. Kalasinsky or by accessing the Web site: http://www.va.gov/rac-gwvi/.

SUPPLEMENTARY INFORMATION: The Research Advisory Committee on Gulf War Veterans' Illnesses was established pursuant to Public Law 105-368, Section 104, to advise the Secretary of VA (hereinafter referred to as “the Secretary”) with respect to proposed research studies, plans, and strategies related to understanding and treating the health consequences of military service in the Southwest Asia theatre of operations during the 1990-1991 Gulf War.

VHA is requesting nominations for upcoming vacancies on the Committee. The Committee is currently composed of 12 members. The members of the Committee are appointed by the Secretary from the general public, including but not limited to:

(1) Gulf War Veterans;

(2) Representatives of such Veterans;

(3) Members of the medical and scientific communities representing disciplines such as, but not limited to, epidemiology, immunology, environmental health, neurology, and toxicology.

To the extent possible, the Secretary seeks members who have diverse professional and personal qualifications. We ask that nominations include information of this type so that VA can ensure a balanced Committee membership.

Individuals appointed to the Committee by the Secretary shall be invited to serve a two- or three-year term. The Secretary may reappoint a member for an additional term of service. Committee members will receive travel expenses and a per diem allowance for any travel made in connection with duties as members of the Committee and within federal travel guidelines.

Requirements for Nomination Submission: Nominations should be typed (one nomination per nominator). Nomination package should include: (1) A letter of nomination that clearly states the name and affiliation of the nominee, the basis for the nomination (i.e., specific attributes which qualify the nominee for service in this capacity), and a statement from the nominee indicating the willingness to serve as a member of the Committee; (2) the nominee's contact information, including name, mailing address, telephone numbers, and email address; (3) the nominee's curriculum vitae; (4) a summary of the nominee's experience and qualifications relative to the membership considerations described above; and (5) a statement confirming that he/she is not a federally-registered lobbyist.

VA makes every effort to ensure that the membership of VA Federal advisory committees is fairly balanced in terms of points of view represented and the committee's function. Appointments to this Committee shall be made without discrimination based on a person's race, color, religion, sex, sexual orientation, gender identity, national origin, age, disability, or genetic information. Nominations must state that the nominee appears to have no conflict of interest that would preclude membership. An ethics review is conducted for each selected nominee.

Dated: September 30, 2014.
Rebecca Schiller,
Advisory Committee Management Officer.

[FR Doc. 2014-23661 Filed 10-3-14; 8:45 am]

BILLING CODE 8320-01-P